FEDERAL MARITIME COMMISSION

Ocean Transportation Intermediary License Applicants

Notice is hereby given that the following applicants have filed with the Federal Maritime Commission applications for licenses as Non-Vessel Operating Common Carrier and Ocean Freight Forwarder—Ocean Transportation Intermediaries pursuant to section 19 of the Shipping Act of 1984 as amended (46 U.S.C. app. 1718 and 46 CFR part 515).

Persons knowing of any reason why any of the following applicants should not receive a license are requested to contact the Office of Freight Forwarders, Federal Maritime Commission, Washington, D.C. 20573.

Non-Vessel-Operating Common Carrier and Ocean Freight Forwarder Transportation Intermediary Applicants:

Global Caribbean,Inc., 12000 Biscayne Blvd, Suite 106, Miami, FL 33181. Officers: Sandra Rivera, Secretary, (Qualifying Individual), Jose Luis Rivera, President

Phoenix International Transport Inc., 208 Hylan Blvd., Staten Island, NY 10305. Officers: Liberio Romano, President (Qualifying Individual), Maria F.S. Romano, Secretary

Port Jersey Shipping International Inc., 268 Seaview Avenue, Jersey City, NJ 07305. Officers: Jose Salvador C. Ungco, Vice President (Qualifying Individual), Rosario Castro Ungco, President

American National Lines, Inc., One World Trade Centre, Suite 4667, New York, NY 10048. Officers: Sunitha Nair, President (Qualifying Individual), Punarjeeva Karunanayake, Vice President

Embassy Cargo, Inc., One Cross Island Plaza, Suite LL3, Rosedale, NY 11422. Officers: Margherita Valluzzi, Secretary (Qualifying Individual), Alessio Mealli, President

Ocean Freight Forwarders—Ocean Transportation Intermediary Applicants:

S & R Forwarding, Inc., 1191 East 51st Street, Brooklyn, NY 11234. Officer: Sumintra Mangru, President (Qualifying Individual)

Lee Ann Tyus Maritime Services, 113 Jeffrey Drive, Brandon, FL 33511, Lee Ann Tyus, Sole Proprietor

Sangar International Corp., 9900 N.W. 25 Street, Suite 210, Miami, FL 33172. Officers: Carlos M. Santana, President (Qualifying Individual), Ambar D. Santana, Vice President

Dated: February 18, 2000.
Bryant L. VanBrakle,
Secretary.

[FR Doc. 00-4363 Filed 2-23-00; 8:45 am]

BILLING CODE 6730-01-P